NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Extension.

2. The title of the information collection: 10 CFR Part 26, “Fitness for Duty Program.”

3. The form number if applicable: 3150-0146.

4. How often the collection is required: On occasion.

5. Who will be required or asked to report: All licensees authorized to construct or operate a nuclear power reactor; all licensees authorized to use, possess, or transport Category 1 nuclear material; and contractors/vendors who have developed a fitness-for-duty program that is formally reviewed and approved by a licensee, which meets the requirements of Part 26.

6. An estimate of the number of annual responses: 1,419 (1,350 responses + 69 recordkeepers).

7. The estimated number of annual respondents: 69.

8. An estimate of the total number of hours needed annually to complete the requirement or request: 61,143 (5,853 hours reporting [an average of 4.3 hours/response] and 55,290 hours recordkeeping [an average of 801 hours/recordkeeper]).

9. An indication of whether section 3507(d), Pub. L. 104-13 applies: N/A.

10. Abstract: 10 CFR part 26, ”Fitness for Duty Program,” requires licensees of nuclear power plants, contractors/vendors who have developed a fitness-for-duty program that is formally reviewed by a licensee, and licensees authorized to possess, use, or transport Category 1 nuclear material to implement fitness-for-duty programs to assure that personnel are not under the influence of any substance or mentally or physically impaired, to retain certain records associated with the management of these programs, and to provide reports concerning significant events and program performance. Compliance with these program requirements is mandatory for licensees subject to 10 CFR part 26. In addition, licensees of nuclear power plants are required to comply with security order EA-03-038, which implements work hour controls for security force personnel and requires licensees to retain certain records associated with the management of this security order.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by November 2, 2005. Comments received after this date will be considered if it is practical to do so, but assurance of consideration cannot be given to comments received after this date.

Office of Information and Regulatory Affairs (3150-0146), NEOB-10202, Office of Management and Budget, Washington, DC 20503.

Comments can also be submitted by telephone at (202) 395-3087.

The NRC Clearance Officer is Brenda Jo. Shelton, 301-415-7233.

Dated at Rockville, Maryland, this 26th day of September, 2005.
For the Nuclear Regulatory Commission.
Brenda Jo. Shelton,
NRC Clearance Officer, Office of the Chief Information Officer.

[FR Doc. E5-5355 Filed 9-30-05; 8:45 am]

BILLING CODE 7590-01-P